DEPARTMENT OF COMMERCE

National Oceanic and Atmospheric Administration

RIN 0648-XO28

Listing Endangered and Threatened Species: Initiation of Status Review for the Oregon Coast Evolutionarily Significant Unit of Coho Salmon

AGENCY: National Marine Fisheries Service (NMFS), National Oceanic and Atmospheric Administration (NOAA), Commerce.

ACTION: Initiation of status review and request for information.

SUMMARY: We, NMFS, initiate a status review under the Endangered Species Act (ESA) for the Oregon Coast coho salmon (Oncorhynchus kisutch) evolutionarily significant unit (ESU). To ensure that the status review is complete and based upon the best available scientific and commercial information, we solicit information regarding the population structure, status and trends, and limiting factors and threats of this coho salmon ESU.

DATES: Information and comments on the subject action must be received by July 28, 2009.

ADDRESSES: You may submit comments, identified by RIN 0648-XO28, by any of the following methods:

• Fax: 503-230-5441.

• Mail: Submit written comments and information to Chief, NMFS, Protected Resources Division, 1201 NE Lloyd Boulevard, Suite 1100, Portland, OR 97232. You may hand-deliver written comments to our office during normal business hours at the street address given above.

FOR FURTHER INFORMATION CONTACT: For further information regarding this notice contact Garth Griffin, NMFS, Northwest Region, (503) 231-2005; or Marta Nammack, NMFS, Office of Protected Resources, (301) 713-1401.

SUPPLEMENTARY INFORMATION:

Background

In a Federal Register notice published February 11, 2008 (73 FR 7816), we issued a final determination to list the Oregon Coast coho salmon ESU as a threatened species under the ESA, and also issued final protective regulations and designated critical habitat. The current listing of Oregon Coast coho salmon and associated protections will remain in place while we conduct this new review. If we determine that a change in listing status is warranted, such a finding would be proposed in a subsequent Federal Register notice, and public comment would be solicited. A thorough review of previous Federal ESA actions related to Oregon Coast coho salmon can be found in 73 FR 7816 through 7817 (February 11, 2008).

ESA Statutory, Regulatory, and Policy Provisions

To be considered for listing under the ESA, a group of organisms must constitute a “species,” which is defined in section 3 of the ESA to include “any subspecies of fish or wildlife or plants, and any distinct population segment [DPS] of any species of vertebrate fish or wildlife which interbreeds when mature.” NMFS treats ESUs of Pacific salmon as constituting a DPS, and hence a “species” under the ESA (56 FR 58612; November 20, 1991). To qualify as an ESU, a Pacific salmon population must be substantially reproductively isolated from other conspecific populations and represent an important component in the evolutionary legacy of the biological species.

The ESA defines an endangered species as one that is in danger of extinction throughout all or a significant portion of its range, and a threatened species as one that is likely to become endangered in the foreseeable future (sections 3(6) and 3(20), respectively). The statute requires us to determine whether any species is endangered or threatened because of any of five factors: the present or threatened destruction of its habitat, overexploitation, disease or predation, the inadequacy of existing regulatory mechanisms, or any other natural or manmade factors (section 4(a)(1)(A) (E)). We are to make this determination based solely on the best available scientific information after conducting a review of the status of the species and taking into account any efforts being made by states or foreign governments to protect the species. The focus of our evaluation of these five factors is to evaluate whether and to what extent a given factor represents a threat to the future survival of the species. The focus of our consideration of protective efforts is to evaluate whether these efforts substantially have and will continue to address the identified threats and so ameliorate a species' risk of extinction. In making our listing determination, we must consider all factors that may affect the future viability of the species, including whether regulatory and conservation programs are inadequate and allow threats to the species to persist or worsen, or whether these programs are likely to mitigate threats to the species and reduce its extinction risk. The steps we follow in implementing this statutory scheme are to: review the status of the species, analyze the factors listed in section 4(a)(1) of the ESA to identify threats facing the species, assess whether certain protective efforts mitigate these threats, and make our best prediction about the species' future persistence.

The joint NMFS FWS Policy on Evaluating Conservation Efforts (“PECE” 68 FR 15100; March 28, 2003) provides direction for considering protective efforts identified in conservation agreements, conservation plans, management plans, or similar documents (developed by Federal agencies, state and local governments, tribal governments, businesses, organizations, and individuals) that have not yet been implemented, or have been implemented but have not yet demonstrated effectiveness.

Distribution and Life History Coho Salmon

Coho salmon (O. kisutch) are a widespread species of Pacific salmon, occurring in most major river basins around the Pacific Rim from Monterey Bay, California, north to Point Hope, Alaska, through the Aleutians, and from the Anadyr River south to Korea and northern Hokkaido, Japan (Laufle et al., 1986). From central British Columbia south, the majority of coho salmon adults are 3-year-olds, having spent approximately 18 months in fresh water and 18 months in salt water (Gilbert, 1912; Pritchard, 1940; Sandercock, 1991). The primary exceptions to this pattern are “jacks,” sexually mature males that return to freshwater to spawn after only 5-7 months in the ocean. However, in southeast and central Alaska, the majority of coho salmon adults are 4-year-olds, having spent an additional year in fresh water before going to sea (Godfrey et al., 1975; Crone and Bond, 1976). The transition zone between predominantly 3-year-old and 4-year-old adults occurs somewhere between central British Columbia and southeast Alaska.

West Coast coho smolts typically leave freshwater in the spring (April to June) and re-enter freshwater when sexually mature from September to November, and spawn from November to December and occasionally into January (Sandercock, 1991). Stocks from British Columbia, Washington, and the Columbia River often have very early (entering rivers in July or August) or late (spawning into March) runs in addition to “normally” timed runs.

Information Solicited

ESU Structure and Extinction Risk

To ensure that the updated status review is complete and based on the best available and most recent scientific and commercial data, we solicit information and comments (see DATES and ADDRESSES) concerning Oregon Coast coho salmon. We solicit pertinent information on the viability of naturally spawned and hatchery populations such as: data on population abundance, recruitment, productivity, escapement, and reproductive success (e.g., spawner-recruit or spawner-spawner survivorship, fecundity, smolt production estimates, and smolt-to-adult ocean survival rates); historical and present data on hatchery fish releases, outmigration, survivorship, returns, straying rates, replacement rates, and reproductive success in the wild; data on age structure and migration patterns of juveniles and adults; meristic, morphometric, and genetic studies; and information on harvest rates on hatchery and wild fish. Data since our last evaluation (2002) is particularly helpful.

In the February 2008 listing determination for Oregon Coast coho (73 FR 7816), we noted that the principal inquiry in determining if this ESU warrants listing is whether present habitat conditions are sufficient to support a viable ESU, particularly during periods of unfavorable marine conditions and low marine survival, and whether future freshwater habitat conditions are expected to degrade. We concluded that the present and future status of freshwater habitat for the Oregon Coast coho ESU was uncertain. Accordingly, we also seek information on spatial or temporal trends in habitat accessibility, quality, and quantity of freshwater (including overwintering and rearing habitats) habitats within the boundaries of the Oregon Coast coho ESU.

Efforts Being Made to Protect Oregon Coast Coho Salmon

We also encourage all parties to submit information on ongoing efforts to protect and conserve Oregon Coast coho salmon, as well as information on recently implemented or planned activities and their likely impact(s).

References

Copies of the petition and related materials are available on the Internet at http://www.nwr.noaa.gov, or upon request (see ADDRESSES section above).

Authority: 16 U.S.C. 1531 et seq.

Dated: April 23, 2009.
Samuel D. Rauch III,
Deputy Assistant Administrator for Regulatory Programs, National Marine Fisheries Service.

[FR Doc. E9-9823 Filed 4-28-09; 8:45 am]

BILLING CODE 3510-22-S